DEPARTMENT OF THE INTERIOR

Fish and Wildlife Service

[FWS-R4-R-2012-N296; FXRS12650400000S3-123-FF04R02000]

Sam D. Hamilton Noxubee National Wildlife Refuge, MS; Intent To Prepare a Comprehensive Conservation Plan and Environmental Assessment

AGENCY: Fish and Wildlife Service, Interior.

ACTION: Notice of intent.

SUMMARY: We, the Fish and Wildlife Service (Service), intend to prepare a comprehensive conservation plan (CCP) and associated National Environmental Policy Act (NEPA) documents for Sam D. Hamilton Noxubee National Wildlife Refuge (NWR) in Noxubee, Oktibbeha, and Winston Counties, Mississippi. We provide this notice in compliance with our CCP policy to advise other Federal and State agencies, Native-American tribes, and the public of our intentions, and to obtain suggestions and information on the scope of issues to consider in the planning process.

DATES: To ensure consideration, we must receive your written comments by February 14, 2013.

ADDRESSES: You may send comments, questions, and requests for information to: Mr. Steve Reagan, Project Leader, Sam D. Hamilton Noxubee NWR, 2970 Bluff Lake Road, Brooksville, MS 39739; or steve_reagan@fws.gov (email).

FOR FURTHER INFORMATION CONTACT: Ms. Michelle Paduani, Natural Resource Planner, at 662-323-5548 (telephone); or michelle_paduani@fws.gov (email); or Mr. Steve Reagan at 662-323-5548 (telephone).

SUPPLEMENTARY INFORMATION:

Introduction

With this notice, we initiate our process for developing a CCP for Sam D. Hamilton Noxubee NWR in Mississippi. This notice complies with our CCP policy to: (1) Advise other Federal and State agencies, Native-American tribes, and the public of our intention to conduct detailed planning on this refuge; and (2) obtain suggestions and information on the scope of issues to consider in the environmental document and during development of the CCP.

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System (Refuge System), consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

Each unit of the Refuge System was established for specific purposes. We use these purposes as the foundation for developing and prioritizing the management goals and objectives for each refuge within the Refuge System mission, and to determine how the public can use each refuge. The planning process is a way for us and the public to evaluate management goals and objectives for the best possible conservation approach to this important wildlife habitat, while providing for wildlife-dependent recreation opportunities that are compatible with the refuge's establishing purposes and the mission of the Refuge System.

Our CCP process provides participation opportunities for Tribal, State, and local governments; agencies; organizations; and the public. We encourage input in the form of issues, concerns, ideas, and suggestions for the future management of Sam D. Hamilton Noxubee NWR.

We will conduct the environmental review of this project in accordance with the requirements of the National Environmental Policy Act of 1969, as amended (NEPA) (42 U.S.C. 4321 et seq.); NEPA regulations (40 CFR parts 1500-1508); other appropriate Federal laws and regulations; and our policies and procedures for compliance with those laws and regulations.

The Noxubee NWR was established on June 14, 1940, by Executive Order 8444, under the authority of 16 U.S.C. 715 (Migratory Bird Conservation Act). It was renamed the Sam D. Hamilton Noxubee National Wildlife Refuge on June 22, 2012. The refuge's stated purpose is “for use as a Refuge and breeding ground for migratory birds and other wildlife.” In conjunction with the primary establishing purposes, the refuge provides an area for the “conservation, management, and restoration of the fish, wildlife, and plant resources and their habitats for the benefit of present and future generations of Americans” 16 U.S.C. 668dd(a)(2) (National Wildlife Refuge System Administration Act of 1966, as amended by the National Wildlife Refuge System Improvement Act of 1997), as well as “for the development, advancement, management, conservation, and protection of fish and wildlife resources” 16 U.S.C. 742(a)(4) (Fish and Wildlife Act of 1956). Subsequently, a small amount of land was purchased with Migratory Bird Conservation Stamp monies “for use as an inviolate sanctuary, or for any other management purpose, for migratory birds” 16 U.S.C. 715d (Migratory Bird Conservation Act).

Public Availability and Comments

Before including your address, phone number, email address, or other personal identifying information in your comment, you should be aware that your entire comment—including your personal identifying information—may be made publicly available at any time. While you can ask us in your comment to withhold your personal identifying information from public review, we cannot guarantee that we will be able to do so.

Authority

This notice is published under the authority of the National Wildlife Refuge System Improvement Act of 1997 (16 U.S.C. 668dd et seq.).

Dated: December 20, 2012.
Mark J. Musaus,
Acting Regional Director.

[FR Doc. 2013-00652 Filed 1-14-13; 8:45 am]

BILLING CODE 4310-55-P